FEDERAL COMMUNICATIONS COMMISSION

47 CFR Part 73

[DA 00-1156; MM Docket No. 99-42; RM-9467; RM-9618]

Radio Broadcasting Services; Whitefield and Northumberland, NH

AGENCY: Federal Communications Commission.

ACTION: Final rule.

SUMMARY: The Commission, at the request of Dana Puopolo, allots Channel 256A to Whitefield, NH, as the community's first local aural service. See 64 FR 7841, February 17, 1999. Channel 256A can be allotted to Whitefield in compliance with the Commission's minimum distance separation requirements with a site restriction of 10.9 kilometers (6.8 miles) northeast, at coordinates 44-27-17 NL; 71-31-36 WL, to avoid a short-spacing to Station WOKO, Channel 255C1, Burlington, VT. Canadian concurrence in the allotment has been obtained since Whitefield is located within 320 kilometers (200 miles) of the U.S.-Canadian border. The counterproposal filed by Barry P. Lunderville to allot Channel 256A to Northumberland, NH, is denied based on a finding that Northumberland is not a community for allotment purposes. A filing window for Channel 256A at Whitefield will not be opened at this time. Instead, the issue of opening a filing window for this channel will be addressed by the Commission in a subsequent order.

DATES: Effective July 10, 2000.

FOR FURTHER INFORMATION CONTACT: Leslie K. Shapiro, Mass Media Bureau, (202) 418-2180.

SUPPLEMENTARY INFORMATION: This is a synopsis of the Commission's Report and Order, MM Docket No. 99-42, adopted May 17, 2000, and released May 26, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under New Hampshire, is amended by adding Whitefield, Channel 256A.

Federal Communications Commission.
John A. Karousos,
Chief, Allocations Branch, Policy and Rules Division, Mass Media Bureau.

[FR Doc. 00-14606 Filed 6-8-00; 8:45 am]

BILLING CODE 6712-01-P